DEPARTMENT OF DEFENSE

Department of the Army

Privacy Act of 1974; System of Records

AGENCY: Department of the Army, DoD.

ACTION: Notice to amend a system of records.

SUMMARY: The Department of the Army is amending two systems of records notices in its existing inventory of record systems subject to the Privacy Act of 1974 (5 U.S.C. 552a), as amended.

DATES: This proposed action will be effective without further notice on March 9, 2000, unless comments are received which result in a contrary determination.

ADDRESSES: Privacy Act Officer, Records Management Program Division, Army Records Management and Declassification Agency, ATTN: TAPC-PDD-RP, Stop C55, Ft. Belvoir, VA 22060-5576.

FOR FURTHER INFORMATION CONTACT: Ms. Janice Thornton at (703) 806-4390 or DSN 656-4390.

SUPPLEMENTARY INFORMATION: The Department of the Army systems of records notices subject to the Privacy Act of 1974 (5 U.S.C. 552a), as amended, have been published in the Federal Register and are available from the address above.

The specific changes to the records system being amended are set forth below followed by the notice, as amended, published in their entirety. The proposed amendments are not within the purview of subsection (r) of the Privacy Act of 1974 (5 U.S.C. 552a), as amended, which requires the submission of a new or altered system report.

Dated: February 2, 2000.
L.M. Bynum,
Alternate OSD Federal Register Liaison Officer, Department of Defense.

A0600-37a DAPE

SYSTEM NAME:

Special Review Board Appeal Case Summary File (February 22, 1993, 58 FR 10002).

CHANGES:

* * * * *

SYSTEM LOCATION:

Delete entry and replace with “Office of the Deputy Chief of Staff for Personnel, Special Review Board (DAPE-MPC-S), Washington, DC 20310-0300.”

* * * * *

RETENTION AND DISPOSAL:

Delete entry and replace with “Records are retained by the Special Review Board for 6 years, then destroyed.”

SYSTEM MANAGER(S) AND ADDRESS:

Delete entry and replace with “Director, Deputy Chief of Staff for Personnel, Special Review Board (DAPE-MPC-S), Washington, DC 20310-0300.”

* * * * *

A0600-37a DAPE

SYSTEM NAME:

Special Review Board Appeal Case Summary File.

SYSTEM LOCATION:

Office of the Deputy Chief of Staff for Personnel, Special Review Board (DAPE-MPC-S), Washington, DC 20310-0300.

CATEGORIES OF INDIVIDUALS COVERED BY THE SYSTEM:

Army officer and enlisted personnel who have submitted substantive, as opposed to administrative, appeal of Officer Evaluation Reports, Enlisted Evaluation Reports, Academic Evaluation Reports, and cases referred for promotion reconsideration.

CATEGORIES OF RECORDS IN THE SYSTEM:

Identification data on individual, date of appeal, dates of contested OER/EER/AER period, and supporting documentation; promotion reconsideration referrals including information provided by the promotion board and relevant documents from individual's OMPF, names of voting SRB member, names of persons contacted by SRB, summary of evidence considered, discussion, recommendations, conclusions, final determination of appeal, and disposition.

AUTHORITY FOR MAINTENANCE OF THE SYSTEM:

10 U.S.C. 3013, Secretary of the Army.

PURPOSE(S):

To review and adjudicate appeals of officer and noncommissioned officer ratings, academic ratings, and promotion board reconsideration cases.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The “Blanket Routine Uses” set forth at the beginning of the Army's compilation of systems of records notices also apply to this system.

Policies and practices for storing, retrieving, accessing, retaining, and disposing of records in the system:

Storage:

Paper records in folders.

Retrievability:

By individual's surname.

Safeguards:

Records are maintained in areas accessible only to designated authorized persons in buildings which employ security guards.

Retention and disposal:

Records are retained by the Special Review Board for 6 years, then destroyed.

System manager(s) and address:

Director, Deputy Chief of Staff for Personnel, Special Review Board (DAPE-MPC-S), Washington, DC 20310-0300.

Notification procedure:

Individuals seeking to determine if information about themselves contained in this system should address written inquiries to the Director, Deputy Chief of Staff for Personnel, Special Review Board (DAPE-MPC-S), Washington, DC 20310-0300.

Individuals should furnish full name, current address and telephone number.

Record access procedures:

Individuals seeking access to records about themselves contained in this system of records should write to the Director, Deputy Chief of Staff for Personnel, Special Review Board (DAPE-MPC-S), Washington, DC 20310-0300.

Individuals should furnish full name, current address and telephone number. For personal visits, individuals must provide acceptable identification such as military identification card.

Contesting record procedures:

The Army's rules for contesting contents and appealing initial agency determinations are contained in Army Regulation 340-21; 32 CFR part 505; or may be obtained from the system manager.

Record source categories:

From the individual, relevant Army records and reports.

Exemptions claimed for the system:

None.

A0621-1 DAPE

SYSTEM NAME:

Army Continuing Education System (February 22, 1993, 58 FR 10002).

CHANGES:

* * * * *

SYSTEM LOCATION:

Delete entry and replace with ‘Education Centers at Army installations; centralized automated education registry transcript system is maintained at Fort Leavenworth, KS. Official mailing addresses are published as an appendix to the Army’s compilation of systems of records notices.'

* * * * *

Routine uses of records maintained in the system, including categories of users and the purposes of such uses:

Change second paragraph to read ‘Information may be disclosed to the Department of Labor, Bureau of Apprenticeship and Training for individuals enrolled in an Army Apprenticeship Program.’

* * * * *

STORAGE:

Delete entry and replace with ‘Paper records and computer printouts; discs and magnetic tapes.’

* * * * *

A0621-1 DAPE

SYSTEM NAME:

Army Continuing Education System.

SYSTEM LOCATION:

Education Centers at Army installations. Official mailing addresses are published as an appendix to the Army's compilation of systems of records notices. A centralized automated education registry transcript system is maintained at Fort Leavenworth, KS.

CATEGORIES OF INDIVIDUALS COVERED BY THE SYSTEM:

Military personnel on active duty, Army Reserves and National Guard.

CATEGORIES OF RECORDS IN THE SYSTEM:

Individual's name, rank, Social Security Number, Military Occupational Specialty, educational and military training achievements, course attendance/completion records; tuition assistance documents; counseling records; academic and diagnostic tests which measure educational level and/or needs including recommendations of American Council on Education (ACE). A composite of course descriptors and scores is recorded in a transcript registry for each soldier who volunteers for educational courses and/or programs.

AUTHORITY FOR MAINTENANCE OF THE SYSTEM:

10 U.S.C. 3013, Secretary of the Army; 10 U.S.C. 4302; Army Regulation 621-5, Army Continuing Education System and E.O. 9397 (SSN).

PURPOSE(S):

To determine academic/vocational level of education; to provide educational guidance and counseling; to enhance soldiers' military effectiveness, prepare them for greater responsibility in the Armed Forces and for productive post-service careers; to provide for systematic recording of all educational accomplishments of Army members; and to render statistical and managerial reports.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

Information may be disclosed to the Department of Labor, Bureau of Apprenticeship and Training for individuals enrolled in an Army Apprenticeship Program.

The ‘Blanket Routine Uses’ set forth at the beginning of the Army's compilation of systems of records notices also apply to this system.

Policies and practices for storing, retrieving, accessing, retaining, and disposing of records in the system:

STORAGE:

Paper records and computer printouts; discs and magnetic tapes.

RETRIEVABILITY:

By individual's surname or Social Security Number.

SAFEGUARDS:

Records are protected from unauthorized disclosure by storage in areas accessible only to authorized personnel within buildings secured by locks or guards. Automated records may be called up by terminals supported by remote and dedicated lines. Each terminal has a physical key lock and is identified by its own physical profile containing user ID, user password which are confidential. Software prohibits entry to files by other than designated authorized personnel.

RETENTION AND DISPOSAL:

Automated data are erased after selected information is captured for managerial reports and course/score data transferred to individual's DA Form 669 which becomes part of the Military personnel Records Jacket. Automated data in the registry transcript system are retained during the soldier's tenure and for 2 additional years following separation after which they are converted to microfiche and retained for 40 years.

SYSTEM MANAGER(S) AND ADDRESS:

Deputy Chief of Staff for Personnel, Headquarters, Department of the Army, ATTN: DAPE-MPO, 300 Army Pentagon, Washington, DC 20310-0300.

NOTIFICATION PROCEDURE:

Deputy Chief of Staff for Personnel, Headquarters, Department of the Army, ATTN: DAPE-ZXI-IC (PA Officer), 300 Army Pentagon, Washington, DC 20310-0300; or the installation's Privacy Act Officer.

RECORD ACCESS PROCEDURES:

Deputy Chief of Staff for Personnel, Headquarters, Department of the Army, ATTN: DAPE-ZXI-IC (PA Officer), 300 Army Pentagon, Washington, DC 20310-0300; or the installation's Privacy Act Officer.

For verification purposes, individual should provide full name, rank, and Social Security Number.

CONTESTING RECORD PROCEDURES:

The Army's rules for accessing records, and for contesting contents and appealing initial agency determinations are contained in Army Regulation 340-21; 32 CFR part 505; or may be obtained from the system manager.

RECORD SOURCE CATEGORIES:

School transcripts, Education Services Officer/Counselor, the individual, test results, SIDPERS, Enlisted Master File.

EXEMPTIONS CLAIMED FOR THE SYSTEM:

None.

[FR Doc. 00-2819 Filed 2-7-00; 8:45 am]

BILLING CODE 5001-10-F